DEPARTMENT OF TRANSPORTATION

Federal Aviation Administration

14 CFR Part 39

[Docket No. 2001-NM-153-AD; Amendment 39-12635; AD 2002-02-07]

RIN 2120-AA64

Airworthiness Directives; Airbus Model A330 and A340 Series Airplanes

AGENCY: Federal Aviation Administration, DOT.

ACTION: Final rule.

SUMMARY: This amendment adopts a new airworthiness directive (AD), applicable to all Airbus Model A330 and A340 series airplanes, that requires repetitive inspections and operational checks of the spring function of the emergency exit door slider mechanism, and corrective action if necessary. This action is necessary to prevent failure of the spring locking function of the slider mechanism due to corrosion, which could result in the escape slide detaching from the airplane in an emergency evacuation. This action is intended to address the identified unsafe condition.

DATES: Effective March 19, 2002.

The incorporation by reference of certain publications listed in the regulations is approved by the Director of the Federal Register as of March 19, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to all Airbus Model A330 and A340 series airplanes was published in the Federal Register on October 12, 2001 (66 FR 52068). That action proposed to require repetitive inspections and operational checks of the spring function of the emergency exit door slider mechanism, and corrective action if necessary.

Comments

Interested persons have been afforded an opportunity to participate in the making of this amendment. No comments were submitted in response to the proposal or the FAA's determination of the cost to the public.

Explanation of Change to Final Rule

The FAA's intention is for the follow-on actions in paragraphs (a)(1) and (a)(2) of this AD (application of corrosion inhibitor to the sliders, and repair or replacement of the slider, if necessary) to be accomplished before further flight after accomplishment of the detailed visual inspection and operational check in paragraph (a) of this AD. However, the words “before further flight” were inadvertently omitted from paragraphs (a)(1) and (a)(2) of the proposal. The FAA finds that our intent in those paragraphs is clear based on the fact that the All Operators Telexes referred to in this AD clearly include the application of corrosion inhibitor as part of the inspection procedures, and also explicitly indicate that repair or replacement of the slider, if necessary, must be accomplished before further flight. However, for further clarification, the FAA has revised paragraphs (a)(1) and (a)(2) of this AD to state that the actions in those paragraphs are required “before further flight.”

Conclusion

The FAA has determined that air safety and the public interest require the adoption of the rule with the changes described previously. The FAA has determined that these changes will neither increase the economic burden on any operator nor increase the scope of the AD.

Cost Impact

The FAA estimates that 9 Model A330 series airplanes of U.S. registry will be affected by this AD. No Model A340 series airplanes affected by this action are currently on the U.S. Register.

It will take approximately 3 work hours per airplane to accomplish the required inspection, at the average labor rate of $60 per work hour. Based on these figures, the cost impact of the inspection required by this AD on U.S. operators is estimated to be $1,620, or $180 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-02-07 Airbus Industrie: Amendment 39-12635. Docket 2001-NM-153-AD.

Applicability: All Model A330 and A340 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent failure of the spring locking function of the slider due to corrosion, which could result in the escape slide detaching from the airplane in an emergency evacuation, accomplish the following:

Inspection

(a) Within 18 months since date of manufacture, or within 550 flight hours after the effective date of this AD, whichever occurs later: Perform a detailed visual inspection and an operational check of the spring function of the emergency exit door slider mechanism, in accordance with Airbus All Operators Telex (AOT) A330-52A3063 (for Model A330 series airplanes) or A340-52A4075 (for Model A340 series airplanes), as applicable, both Revision 01, both dated January 3, 2001.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If all sliders lock properly: Before further flight, apply corrosion inhibitor to the sliders, in accordance with the applicable AOT. Thereafter, repeat the inspection and operational check at least every 18 months.

(2) If any slider does not lock properly: Before further flight, repair the slider or replace it with a new part, and apply corrosion inhibitor to the sliders; in accordance with the applicable AOT. Thereafter, repeat the inspection and operational check at least every 18 months.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(c) Special flight permits may be issued in accordance with §§ 21.197 and 21.199 of the Federal Aviation Regulations (14 CFR 21.197 and 21.199) to operate the airplane to a location where the requirements of this AD can be accomplished.

Incorporation by Reference

(d) The actions shall be done in accordance with Airbus All Operators Telex A330-52A3063, Revision 01, dated January 3, 2001; or Airbus All Operators Telex A340-52A4075, Revision 01, dated January 3, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2001-053(B) and 2001-052(B), both dated February 7, 2001.

Effective Date

(e) This amendment becomes effective on March 19, 2002.

Issued in Renton, Washington, on January 31, 2002.
Ali Bahrami,
Acting Manager, Transport Airplane Directorate, Aircraft Certification Service.

[FR Doc. 02-2929 Filed 2-11-02; 8:45 am]

BILLING CODE 4910-13-U